DEPARTMENT OF TRANSPORTATION

Research and Special Programs Administration

Pipeline Safety: Unauthorized Excavations and the Installation of Third-Party Data Acquisition Devices on Underground Pipeline Facilities

AGENCY: Office of Pipeline Safety (OPS), Research and Special Programs Administration (RSPA), DOT.

ACTION: Notice; issuance of advisory bulletin.

SUMMARY: RSPA/OPS is issuing this advisory bulletin to owners and operators of gas and hazardous liquid pipeline systems on the potential for unauthorized excavations and the unauthorized installation of acoustic monitoring devices or other data acquisition devices on pipeline facilities. These devices are used by entities that hope to obtain market data on hazardous liquid and gas movement within the pipelines. Recent events have disclosed that devices were physically installed on pipelines without the owners permission. Operators must control construction on pipeline right-of-ways and ensure that they are carefully monitored to keep pipelines safe. This is in line with our efforts to prevent third-party damage as reflected by our support of the Common Ground Alliance, which is a nonprofit organization dedicated to shared responsibility in damage prevention and promotion of the damage prevention Best Practices. This advisory bulletin emphasizes the need to ensure that only authorized and supervised excavations are undertaken along the nation's pipeline systems.

FOR FURTHER INFORMATION CONTACT: John Pepper by phone at (713) 270-9376, by fax at (713) 270-9515, or by e-mail at john.pepper@rspa.dot.gov, regarding the subject matter of this advisory bulletin. General information about the Research and Special Programs Administration, Office of Pipeline Safety (RSPA/OPS) programs may be obtained by accessing OPS’ home page at http://ops.dot.gov.

SUPPLEMENTARY INFORMATION:

Background

RSPA/OPS had been advised of the unauthorized installation of devices on an operator's pipeline for the purpose of obtaining flow data for marketing purposes. The pipeline safety regulations require pipeline operators to carry out a written damage prevention program for buried pipelines. RSPA/OPS is encouraging operators to carefully review their damage prevention programs and to survey their right-of-ways to ensure the discovery of similar inappropriate actions. RSPA/OPS also reminds owners and operators of pipelines and the public of the critical importance of accurately locating underground piping and ensuring the qualifications of personnel performing this work. RSPA/OPS believes that this Advisory Bulletin is necessary to make operators aware of a potential threat to their pipelines and to ensure that they take appropriate action to detect and correct any damage associated with these unauthorized installations.

Advisory Bulletin (ADB-04-03)

To: Owners and operators of gas transmission and hazardous liquid pipelines.

Subject: Potential for unauthorized excavations and the installation of acoustic monitoring devices or other data acquisition devices on pipeline facilities.

Purpose: To ensure that pipeline owners and operators are aware of and take actions to prevent or mitigate the dangers associated with unauthorized excavations and the attendant installation of devices by entities seeking to exploit the pipelines for other purposes, and to remind operators and the public of the need to ensure that underground pipeline facilities are adequately located and protected from inadvertent damage prior to excavations.

Advisory: RSPA/OPS urges all owners and operators of gas and hazardous liquid pipelines to vigilantly monitor their right-of-ways for unauthorized excavation and the installation of data acquisition devices by third parties seeking to extract product movement information from the pipelines. This activity can impact pipeline integrity either through damage to the pipeline caused by the excavation activities or damage to the pipe coating caused by the attachment of the devices to the pipeline. The installation of pipeline monitoring devices should only be performed with the express knowledge, consent, and support of the pipeline operators.

Damage to underground facilities caused by unauthorized excavation can occur without any immediate indication to the operator. Sometimes a damaged underground pipeline facility will not fail for years after the completion of excavation activities. Excavation equipment does not need to fully rupture a pipeline facility to create a hazardous situation. Damage to coatings and other corrosion prevention systems can increase the risk of a delayed corrosion failure. Escaping and migrating gas can create a safety issue for people living and working near these facilities long after the completion of excavation activities. Leakage from a damaged or ruptured hazardous liquid pipeline can create environmental and safety issues. The primary safety concern is to ensure that excavation operations do not accidentally contact existing underground pipeline facilities. This can be averted by knowing the precise locations of all underground pipeline facilities in proximity to excavation operations and closely monitoring excavation activities.

Issued in Washington, DC, on August 12, 2004.
Stacey L. Gerard,
Associate Administrator for Pipeline Safety.

[FR Doc. 04-18903 Filed 8-17-04; 8:45 am]

BILLING CODE 4910-60-P